NATIONAL TRANSPORTATION SAFETY BOARD

Sunshine Act Meeting

TIME AND DATE: 9:30 a.m., Tuesday, March 23, 2021.

PLACE: Virtual.

STATUS: The one item may be viewed by the public through webcast only.

MATTERS TO BE CONSIDERED:

66508 Aviation Investigation Report—Enhance Safety of Revenue Passenger-Carrying Operations Conducted Under Title 14 Code of Federal Regulations Part 91

CONTACT PERSON FOR MORE INFORMATION: Candi Bing at (202) 590-8384 or by email at bingc@ntsb.gov.

Media Information Contact: Peter Knudson by email at peter.knudson@ntsb.gov or (202) 314-6100.

This meeting will take place virtually. The public may view it through a live or archived webcast by accessing a link under “Webcast of Events” on the NTSB home page at www.ntsb.gov.

There may be changes to this event due to the evolving situation concerning the novel coronavirus (COVID-19). Schedule updates, including weather-related cancellations, are also available at www.ntsb.gov.

The National Transportation Safety Board is holding this meeting under the Government in the Sunshine Act, 5 U.S.C. 552(b).

Dated: March 4, 2021.
Candi R. Bing,
Federal Register Liaison Officer.

[FR Doc. 2021-04937 Filed 3-5-21; 11:15 am]

BILLING CODE 7533-01-P